DEPARTMENT OF DEFENSE

Department of the Air Force

[Docket ID USAF-2014-0025]

Proposed Collection; Comment Request

AGENCY: DoD Commerical Airlift Division (HQ AMC/A34B), Department of the Air Force, Department of Defense.

ACTION: Notice.

SUMMARY: In compliance with the Paperwork Reduction Act of 1995, the Department of the Air Force announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 29, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the DoD Commercial Airlift Division (A34B), ATTN: Ms. Racheal Whitlow, 402 Scott Drive, Unit 3A1, Scott AFB, IL 62225-5302, or call HQ AMC/A34B, DoD Commercial Airlift Division at 618-229-4801.

SUPPLEMENTARY INFORMATION: Title; Associated Form; and OMB Number: DoD Statement of Intent, AMC Form 207; OMB Control Number 0701-0137.

Needs and Uses: The information collection requirement is necessary to the Department of Defense Commercial Airlift Division (HQ AMC/A34B) and is responsible for the assessment of a commercial air carrier's ability to provide quality, safe, and reliable airlift to the Department of Defense. HQ AMC/A34B uses Air Mobility Command (AMC) Form 207 to acquire information needed to make a determination if the commercial carriers can support the Department of Defense. Information is evaluated and used in the approval process. Failure to respond renders the commercial air carrier ineligible for contracts to provide air carriers service to the Department of Defense.

Affected Public: Business or other for profit; Not-for-profit institutions.

Annual Burden Hours: 300 hours.

Number of Respondents: 15.

Responses per Respondent: 1.

Average Burden per Response: 20 hours.

Frequency: On occasion.

Respondents are commercial air carriers desiring to supply airlift services to DoD. AMC Form 207 provides vital information from the carriers needed to determine their eligibility to participate in the DoD Air Transportation Program.

Dated: July 28, 2014.
Aaron Siegel,
Alternate OSD Federal Register, Liaison Officer, Department of Defense.

[FR Doc. 2014-18025 Filed 7-30-14; 8:45 am]

BILLING CODE 5001-06-P